DEPARTMENT OF LABOR

Office of the Secretary

Submission for OMB Review; Comment Request

DATES: March 28, 2003.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained by calling the Department of Labor. To obtain documentation contact Darrin King on 202-693-4129 or e-mail: King.darrin@dol.gov.

Comments should be sent to Office of Information and Regulatory Affairs, Attn: OMB Desk Officer for ETA, Office of Management and Budget, Room 10235, Washington, DC 20503 (202-395-7316), within 30 days from the date of this publication in the Federal Register.

The OMB is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the collection of information on those who are to respond, including through the use of appropriate automated, electronic, mechanical, or other technological collection techniques or other forms of information technology, e.g., permitting electronic submission of responses.

Agency: Employment and Training Administration (ETA).

Type of Review: Extension of a currently approved collection.

Title: State Unified Plan Planning Guidance for State Unified Plans and Unified Plan Modifications submitted under Section 501 of the Workforce Investment Act of 1998.

OMB Number: 1205-0407.

Affected Public: State, Local, or Tribal Government.

Type of Response: Reporting.

Frequency: As needed.

Number of Respondents: 57.

Total Annual Responses: 57.

Average Response Time: 25 hours.

Total Annual Burden Hours: 1,425.

Total Annualized Capital/Startup Costs: $0.

Total Annual Costs (operating/maintaining systems or purchasing services):: $15.00.

Description: Title V, Section 501 of the Workforce Investment Act of 1998 provides an optional model for States to submit a single plan for up to 16 Federal education and training programs. While not required, following the model outlined in this guidance will reduce burden on the State and ensure that the State has met the individual program state planning requirements. This information request deals with modifications to these plans that are submitted in accordance with 20 CFR 661.230 and 661.240.

Ira L. Mills,
Departmental Clearance Officer.

[FR Doc. 03-8225 Filed 4-3-03; 8:45 am]

BILLING CODE 4510-30-M